DEPARTMENT OF JUSTICE

Antitrust Division

Notice Pursuant to the National Cooperative Research and Production Act of 1993—International Pharmaceutical Aerosol Consortium for Toxicology Testing of HFA-134a (IPACT-I)

Notice is hereby given that, on July 6, 2000, pursuant to Section 6(a) of the National Cooperative Research and Production Act of 1993, 15 U.S.C. 4301 et seq. (“the Act”), The International Pharmaceutical Aerosol Consortium for Toxicology Testing of HFA-134a (“IPACT-I”) filed written notifications simultaneously with the Attorney General and the Federal Trade Commission disclosing a change in name of some of its members.

The notifications were filed for the purpose of extending the Act's provisions limiting the recovery of antitrust plaintiffs to actual damages under specified circumstances. Specifically, Astra AB, a member of IPACT-I, is now known as AstraZeneca AB, Sodertalje, Sweden; Rhone-Poulenc Rorer Pharmaceuticals, Inc., a member of IPACT-I, is now known as Aventis Pharmaceuticals Products, Inc., Collegeville, PA; and Fisons plc, a member of IPACT-I, is now known as Fisons Ltd., Holmes Chapel, England, United Kingdom.

No other changes have been made in either the membership or planned activity of IPACT-I. Membership in this joint research project remains open, and IPACT-I intends to file additional written notification disclosing all changes in membership.

On August 7, 1990, IPACT-I filed its original notification pursuant to Section 6(a) of the Act. The Department of Justice published a notice in the Federal Register pursuant to Section 6(b) of the Act on September 6, 1990 (55 Fed. Reg. 36710).

The last notification was filed with the Department on December 3, 1997. A notice was published in the Federal Register pursuant to Section 6(b) of the Act on February 19, 1998 (63 FR 8477).

Constance K. Robinson,
Director of Operations, Antitrust Division.

[FR Doc. 00-25896 Filed 10-6-00; 8:45 am]

BILLING CODE 4410-11-M